DEPARTMENT OF TRANSPORTATION

Surface Transportation Board

[STB Finance Docket No. 33884]

Wisconsin Central Ltd.—Trackage Rights Exemption—Illinois Central Railroad Company

Illinois Central Railroad Company (IC) has agreed to amend the overhead trackage rights previously granted to Wisconsin Central Ltd. (WCL) over its line of railroad between IC's connection with Union Pacific near 16th Street in Chicago and IC's Markham Yard in Hazel Crest, IL, a distance of approximately 22 miles.¹ Previously, WCL used those rights to interchange traffic with IC and Grand Trunk Western Railroad Incorporated at Markham Yard, and also to interchange traffic at a connection point with Norfolk and Western Railway Company near 95th Street in Chicago, IL.

¹ See Wisconsin Central Ltd.—Trackage Rights Exemption—The Baltimore and Ohio Chicago Terminal Railroad Company, Consolidated Rail Corporation, Illinois Central Railroad Company, and Chicago and North Western Transportation Company, Finance Docket No. 31659 (ICC served Oct. 31, 1990).

The transaction is scheduled to be consummated on or shortly after July 5, 2000.

The proposed amendment to the trackage rights would grant additional rights to WCL and will allow WCL to connect directly with lines of the Chicago South Shore and South Bend Railroad (CSS) at 115th Street in Chicago, thus providing for a streamlined route for roofing granules and other goods originating on the WCL in Kremlin, WI, to reach CSS-served customers and possibly to reach other carriers connecting with CSS.

As a condition to this exemption, any employees affected by the trackage rights will be protected by the conditions imposed in Norfolk and Western Ry. Co.—Trackage Rights—BN, 354 I.C.C. 605 (1978), as modified in Mendocino Coast Ry., Inc.-Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 33884, must be filed with the Surface Transportation Board, Office of the Secretary, Case Control Unit, 1925 K Street, NW., Washington, DC 20423-0001. In addition, one copy of each pleading must be served on Michael J. Barron, Jr., Wisconsin Central Ltd., One O'Hare Centre, 6250 North River Road, Suite 9000, Rosemont, IL 60018.

Board decisions and notices are available on our website at “WWW.STB.DOT.GOV.”

Decided: June 28, 2000.
By the Board, David M. Konschnik, Director, Office of Proceedings.
Vernon A. Williams,
Secretary.

[FR Doc. 00-16859 Filed 7-6-00; 8:45 am]

BILLING CODE 4915-00-P